DEPARTMENT OF TRANSPORTATION

Federal Aviation Administration

Notice of Request To Release Airport Property

AGENCY: Federal Aviation Administration (FAA), DOT.

ACTION: Notice of intent to rule on request to release airport property at the Liberal Mid-America Regional Airport (LBL), Liberal, Kansas.

SUMMARY: The FAA proposes to rule and invites public comment on the release of land at the Liberal Mid-America Regional Airport (LBL), Liberal, Kansas, under the provisions of 49 U.S.C. 47107(h)(2).

DATES: Comments must be received on or before July 6, 2015.

ADDRESSES: Comments on this application may be mailed or delivered to the FAA at the following address: Lynn D. Martin, Airports Compliance Specialist, Federal Aviation Administration, Airports Division, ACE-610C, 901 Locust Room 364, Kansas City, MO 64106.

In addition, one copy of any comments submitted to the FAA must be mailed or delivered to: Debra S. Giskie, Airport Manager, Liberal Mid-America Regional Airport & Airport Industrial Park, City of Liberal, P.O. Box 2199, Liberal, KS 67901, (620) 626-2207.

FOR FURTHER INFORMATION CONTACT: Lynn D. Martin, Airports Compliance Specialist, Federal Aviation Administration, Airports Division, ACE-610C, 901 Locust Room 364, Kansas City, MO 64106, (816) 329-2644, lynn.martin@faa.gov. The request to release property may be reviewed, by appointment, in person at this same location.

SUPPLEMENTARY INFORMATION: The FAA invites public comment on the request to release approximately 11.38 acres of airport property at the Liberal Mid-America Regional Airport (LBL) under the provisions of 49 U.S.C. 47107(h)(2). On March 13, 2015, the City of Liberal City Manager requested from the FAA that approximately 11.38 acres of property be released for sale to the City of Liberal. On May 26, 2015, the FAA determined that the request to release property at Liberal Mid-America Regional Airport (LBL) submitted by the Sponsor meets the procedural requirements of the Federal Aviation Administration and the release of the property does not and will not impact future aviation needs at the airport. The FAA may approve the request, in whole or in part, no sooner than thirty days after the publication of this Notice.

The following is a brief overview of the request:

Liberal Mid-America Regional Airport (LBL) is proposing the release of a parcel, totaling 11.38 acres. The release of land is necessary to comply with Federal Aviation Administration Grant Assurances that do not allow federally acquired airport property to be used for non-aviation purposes. The sale of the subject property will result in the surface lands being released at the Liberal Mid-America Regional Airport (LBL), from the conditions of the AIP Grant Agreement Grant Assurances, but retaining any mineral rights. In accordance with 49 U.S.C. 47107(c)(2)(B)(i) and (iii), the airport will receive fair market value for the property, from the City of Liberal and will be subsequently sold to Wal-Mart.

Any person may inspect, by appointment, the request in person at the FAA office listed above under FOR FURTHER INFORMATION CONTACT. In addition, any person may, upon appointment and request, inspect the application, notice and other documents determined by the FAA to be related to the application in person at the Liberal Mid-America Regional Airport.

Issued in Kansas City, MO, on May 27, 2015.
Jim A. Johnson,
Manager, Airports Division.

[FR Doc. 2015-13502 Filed 6-2-15; 8:45 am]

BILLING CODE 4910-13-P